DEPARTMENT OF THE TREASURY

Submission for OMB Review; Comment Request

April 15, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 27, 2003 to be assured of consideration.

Internal Revenue Service

OMB Number: 1545-0441.

Form Number: IRS Forms 6559 ad 6559-A.

Type of Review: Extension.

Title: Form 6659: Report and Summary of Magnetic Media; and Form 6559-A: Continuation Sheet for Form 6559.

Description: Forms 6559 and 6559-A are used by filers of Form W-2 wage and tax data to transmit filing on magnetic media. SSA and IRS need signed and summary data for processing purposes. The forms are used primarily by large employers and tax filing services (service bureaus).

Respondents: Business or other for-profit, Not-for-profit institutions, Farms, Federal Government, State, Local or Tribal Government.

Estimated Number of Respondents: 90,000.

Estimated Burden Hours Per Respondent: 18 minutes.

Frequency of Response: Annually.

Estimated Total Reporting Burden: 27,000 hours.

OMB Number: 1545-1240.

Regulation Project Number: INTL-116-90 NPRM.

Type of Review: Extension.

Title: Allocation of Charitable Contributions.

Description: The recordkeeping requirement affects businesses or other for-profit institutions. This information is required by the IRS to ensure the proper application of section 1.861-8(e)(iv) of the regulations. This information will be used to verify the U.S. source allocation of certain charitable contributions.

Respondents: Business or other for-profit.

Estimated Number of Recordkeepers: 500.

Estimated Burden Hours Per Recordkeeper: 1 hour.

Estimated Total Recordkeeping Burden: 500 hours.

OMB Number: 1545-1412.

Regulation Project Number: FI-54-93 Final.

Type of Review: Extension.

Title: Clear Reflection of Income in the Case of Hedging Transactions.

Description: This information is required by the Internal Revenue Service to verify compliance with section 446 of the Internal Revenue Code. This information will be used to determine that the amount of tax has been computed correctly.

Respondents: Business or other for-profit.

Estimated Number of Recordkeepers: 110,000.

Estimated Burden Hours Per Recordkeeper: 12 minutes.

Estimated Total Recordkeeping Burden: 22,000 hours.

OMB Number: 1545-1533.

Revenue Procedure Number: Revenue Procedure 97-22.

Type of Review: Extension.

Title: 26 CFR 601.105, Examination of Returns and Claims for Refund, Credits, or Abatement, Determination of Correct Tax Liability.

Description: The information requested in Revenue Procedure 97-22 under sections 4 and 5 is required to ensure that records maintained in an electronic storage system will constitute records within the meaning of section 6001.

Respondents: Business or other for-profit, Individuals or households, Not-for-profit institutions, Farms, Federal Government, State, Local or Tribal Government.

Estimated Number of Recordkeepers: 50,000.

Estimated Burden Hours Per Recordkeeper: 20 hours, 1 minute.

Estimated Total Recordkeeping Burden: 1,000,400 hours.

OMB Number: 1545-1540.

Regulation Project Number: REG-106871-00 NPRM.

Type of Review: Extension.

Title: Reporting Requirement for Widely Held Fixed Investment Trusts.

Description: The regulations clarify the reporting requirements of trustees and middlemen involved with widely held fixed investment trusts.

Respondents: Business or other for-profit.

Estimated Number of Respondents: 1,200.

Estimated Burden Hours Per Respondent: 2 hours.

Frequency of Response: Quarterly, Annually.

Estimated Total Reporting Burden: 2,400 hours.

OMB Number: 1545-1673.

Revenue Procedure Number: Revenue Procedure 2002-47.

Type of Review: Extension.

Title: Employee Plans Compliance Resolution System.

Description: The information requested in this revenue procedure is required to enable the Commissioner, Tax Exempt and Government Entities Division of the Internal Revenue Service to make determinations on the issuance of various types of closing agreements and compliance statements. The issuance of these agreements and statements allows individual plans to maintain their tax-qualified status. As a result, the favorable tax treatment of the benefits of the eligible employees is retained.

Respondents: Business or other for-profit, Individuals or households, Not-for-profit institutions, State, Local or Tribal Government.

Estimated Number of Respondents/Recordkeepers: 4,292.

Estimated Burden Hours Per Respondent/Recordkeeper: 13 hours, 6 minutes.

Frequency of Response: On occasion.

Estimated Total Reporting/Recordkeeping Burden: 56,272 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Departmental Reports, Management Officer.

[FR Doc. 03-10275 Filed 4-24-03; 8:45 am]

BILLING CODE 4830-01-P